DEPARTMENT OF EDUCATION

34 CFR Chapter III

[CFDA Number: 84.264A.]

Final priority. Rehabilitation Training: Job-Driven Vocational Rehabilitation Technical Assistance Center

AGENCY: Office of Special Education and Rehabilitative Services, Department of Education.

ACTION: Final priority.

SUMMARY: The Assistant Secretary for Special Education and Rehabilitative Services announces a priority under the Rehabilitation Training program to establish a Job-Driven Vocational Rehabilitation Technical Assistance Center (JDVRTAC). The Assistant Secretary may use this priority for competitions in fiscal year (FY) 2014 and later years. We take this action to focus on training in an area of national need. Specifically, this priority responds to the Presidential Memorandum to Federal agencies directing them to take action to address job-driven training for the Nation's workers. The JDVRTAC will provide technical assistance (TA) to State vocational rehabilitation (VR) agencies to help them develop for individuals with disabilities training and employment opportunities that meet the needs of today's employers.

DATES: This priority is effective September 18, 2014.

FOR FURTHER INFORMATION CONTACT: Jerry Elliott, U.S. Department of Education, 400 Maryland Avenue SW., Room 5042, Potomac Center Plaza (PCP), Washington, DC 20202-2800. Telephone: (202) 245-7335 or by email: jerry.elliott@ed.gov.

If you use a telecommunications device for the deaf (TDD) or a text telephone (TTY), call the Federal Relay Service (FRS), toll free, at 1-800-877-8339.

SUPPLEMENTARY INFORMATION:

Purpose of Program: Under the Rehabilitation Act of 1973, as amended (the Rehabilitation Act), the Rehabilitation Services Administration (RSA) makes grants to States and public or nonprofit agencies and organizations (including institutions of higher education) to support projects that provide training, traineeships, and TA designed to increase the numbers and improve the skills of qualified personnel (especially rehabilitation counselors) who are trained to: Provide vocational, medical, social, and psychological rehabilitation services to individuals with disabilities; assist individuals with communication and related disorders; and provide other services authorized under the Rehabilitation Act.

Program Authority: 29 U.S.C. 772(a)(1).

Applicable Program Regulations: 34 CFR part 385.

We published a notice of proposed priority for this competition in the Federal Register on June 19, 2014 (79 FR 35121). That notice contained background information and our reasons for proposing the particular priority. There are differences between the proposed priority and the final priority, and we explain those differences in the Analysis of Comments and Changes section of this notice.

Public Comment: In response to our invitation in the notice of proposed priority, 83 parties submitted comments on the proposed priority.

Generally, we do not address technical and other minor changes.

Analysis of the Comments and Changes: An analysis of the comments and of any changes in the priority since publication of the notice of proposed priority follows.

Comment: The majority of commenters expressed concern that the proposed priority for the JDVRTAC would specifically replace the ten Technical Assistance and Continuing Education (TACE) Centers that provide TA and continuing education (CE) in designated geographical areas and that the JDVRTAC would not meet all of the needs of State VR agencies.

Discussion: We recognize the commenters' concerns. However, the JDVRTAC is not meant to replace or replicate the services provided by the TACE Centers and will not be the Department's sole TA investment focused on supporting State VR agencies. It is a single, short-term vehicle for providing a range of TA activities specifically related to the issues outlined in the Presidential Memorandum issued on January 30, 2014 ¹ (Presidential Memorandum), which directed the Secretaries of the Departments of Labor, Commerce, and Education to take action to address job-driven training for the Nation's workers. The JDVRTAC is intended to be a topical center focused on assisting State VR agencies to incorporate job-driven techniques into agency operations.

¹ Obama, B.H. (2014). Presidential Memorandum on Job-Driven Training for Workers. January 30, 2014. Available at: www.whitehouse.gov/the-press-office/2014/01/30/presidential-memorandum-job-driven-training-workers.

Although we have decided not to continue the TACE program beyond September 30, 2014, that decision and the decision to support the establishment of the JDVRTAC were not linked. To capitalize on the initiative of the Presidential Memorandum and the ensuing multi-agency effort to improve employment outcomes for all Americans, including individuals with disabilities, RSA determined that an expedited effort to develop the JDVRTAC proposal was warranted. RSA continues to work to develop additional TA priorities to address other areas of TA needed by State VR agencies.

Changes: None.

Comment: Many commenters were concerned that there had not been a formal consultation process with State VR agencies and stakeholders regarding the elimination of the current TACE Center program and that RSA had not publicly outlined its long-term plan for the provision of TA to those agencies.

Some of these commenters believed that RSA should conduct a national needs assessment to solicit from State VR agencies and other stakeholders about their views on the most important TA needs. Many of these commenters stated that the current TACE Centers should be continued or, at a minimum, funded for one additional year to allow for a more orderly transition and time for public consultation about the development of a new TA system.

Discussion: Although the discussion of an overall plan for TA activity and specific solutions for meeting multiple TA needs is beyond the scope of this notice, we feel it is important to take this opportunity to provide some additional background about the Department's plans regarding the provision of TA to State VR agencies. Approximately 16 months ago, the Department decided to extend the current system of ten TACE Centers, with additional funding, through September 30, 2014. The Department plans to allow those TACE Centers that have funds remaining to continue to operate for another year using funds that have been previously obligated in order to ensure timely completion of the projects. In the coming months, we will begin the process of finalizing our long-term TA strategy and plan. At that time, we will invite stakeholder comment to ensure that our plan is structured to meet the needs of State VR agencies and VR consumers while also ensuring the most effective and efficient use of limited Federal resources.

Changes: None.

Comment: While some commenters said that the focus on employer-driven activities and the content of the JDVRTAC was important, other commenters said that the JDVRTAC priority is not needed because their State VR agency is already involved with employer engagement activities and using labor market and occupational information. Many of these commenters also suggested that the JDVRTAC would duplicate efforts conducted by the Council of State Administrators of Vocational Rehabilitation (CSAVR) through the National Employment Team (NET) and the related Talent Acquisition Portal (TAP).

However, other commenters said that the focus on job-driven, employer-related topics in the JDVRTAC is needed and that such information would be of interest to them.

Discussion: We recognize that State VR agency practices vary with respect to the use of job-driven strategies. From RSA monitoring visits, we know that some agencies have already implemented comprehensive job-driven systems, including the use of labor market and occupational information, outreach to employers, and the provision of services to employers related to employees with disabilities. We expect that these States will have less need to seek out intensive TA from the JDVRTAC, allowing the JDVRTAC to primarily focus resources on those States that have not implemented such comprehensive systems.

Changes: None.

Comment: Several commenters expressed concern that a national center staff would not be knowledgeable about regional issues and needs, such as the needs of rural areas and States with small populations.

Discussion: It is the Department's expectation that the JDVRTAC will provide intensive TA to, and develop a range of TA products appropriate for, a wide array of States and populations, including rural areas. During the course of the national needs assessment in the first year, we expect the JDVRTAC to identify any special TA needs unique to rural areas and small States, as well as those unique to other potential TA recipients. Additionally, the priority requires the JDVRTAC to conduct various activities designed to ensure contact and interaction with State VR agencies, including development of a plan for outreach and communication with State VR agencies and for establishing communities of practice. The priority also requires applicants to demonstrate that key project personnel have the qualifications and experience to provide TA to States in the job-driven topic areas identified in the priority.

Changes: None.

Comment: Several commenters were concerned that the JDVRTAC priority does not support CE and, instead, funds TA only.

Discussion: The JDVRTAC priority is focused on job-driven approaches. It does not eliminate support for CE, but does limit the topic areas on which such activities are conducted. Specifically, the proposed priority allows for training, Webinars, and presentations related to the job-driven topic areas included in the center. However, it does not support the provision of CE on other, unrelated topics. If State VR agencies believe it is necessary to support additional CE activities outside of those provided by the JDVRTAC or the TACE Centers (or any future TA investment supported by the Department), State VR agencies may use Title I VR program funds to support those activities.

Changes: None.

Comment: Several commenters were concerned that the JDVRTAC priority signaled a shift in emphasis for the VR program, from a program that is intended to meet the employment needs of individuals with disabilities to one in which the employer is the predominant customer.

Discussion: We agree that employers are not the sole customer of the VR program. However, the Department does not agree that a JDVRTAC addressing job-driven activities represents a fundamental reorganization of priorities. Employer-related activities have long been functions of State VR agencies (e.g., the employer-related activities of CSAVR in support of the NET and the TAP).

Moreover, the topic areas within the priority are focused not just on the needs of employers, but on the needs of individuals with disabilities, specifically the improvement of their employment outcomes. For example, one focus of the priority is the use of labor market and occupational information, which is designed to help individuals with disabilities make informed choices about vocational goals. Further, we expect the focus on employer engagement strategies will open up new employment options and create new opportunities for individuals with disabilities. Finally, we expect that an increase in the availability of employer-driven training options will lead to jobs with good pay and in occupations not historically available to individuals with disabilities, thereby increasing employment options for these individuals.

We also note that nothing in the priority requires State VR agencies to engage only in job-driven strategies or to develop individual vocational objectives based only on job-driven information and activities.

Changes: None.

Comment: Several commenters were concerned that only 16 agencies would receive intensive TA from the JDVRTAC over the three-year grant period.

Discussion: The JDVRTAC priority requires the JDVRTAC to conduct a minimum of 16 intensive TA activities during the three-year grant period. This number is a minimum requirement, not an upper limit, taking into account time, estimates of available resources, and the intensive nature of the interventions.

As noted above, not all State VR agencies may need intensive TA activities related to job-driven strategies. General and targeted TA, including communities of practice, would still be available to all State VR agencies.

Changes: None.

Comment: Four commenters asked about how the 16 State VR agencies mentioned in the priority will be chosen to receive intensive TA. One commenter was concerned that RSA might make these decisions, and another was concerned that there were no criteria to assist the successful applicant to make these decisions.

Discussion: We envision that the 16 State VR agencies will be self-selected based on their interest and commitment in implementing job-driven activities. Ideally, the JDVRTAC would develop knowledge, skills, and intervention strategies that State VR agencies would desire to implement, or the State VR agencies would suggest job-driven strategies that they wish to implement with the assistance of the JDVRTAC. In the event that the number of requests exceeds available resources, RSA may be involved with the prioritization of requests in its role in implementing the cooperative agreement. We would base prioritization decisions on each State VR agency's commitment to making change, and the level of change and resource utilization that best fits a State VR agency's situation, as reflected in the terms of its cooperative agreement with the JDVRTAC.

Changes: None.

Comment: One commenter asked what would happen after the three-year grant period and whether additional assistance with job-driven activities would continue to be available so that more agencies might receive assistance.

Discussion: We have not decided if or how the activities of the JDVRTAC will be continued beyond the proposed three-year funding period. Future funding of this priority is beyond the scope of this notice.

Changes: None.

Comment: Four commenters stated that the priority is too prescriptive and is a “one size fits all” approach that will not meet the needs of many State VR agencies.

Discussion: The priority is intended to support a topical center with a focus on job-driven activities. The JDVRTAC is not intended to be a comprehensive solution for all TA needs. The JDVRTAC will collect and develop multiple strategies to implement effective job-driven approaches. Additionally, we expect that all intensive TA engagements will be specifically tailored to the needs of the particular State VR agency receiving those services. As such, the actual services provided and TA topics covered in any intensive TA engagement will likely vary from State to State. This is the purpose of requiring intensive TA in addition to universal or targeted TA.

Changes: None.

Comment: One commenter suggested replacing the term “employer” with the term “business” as it is the term preferred by most in the business community.

Discussion: “Employer” and “employer associations” are the terms used in the Presidential Memorandum. Accordingly, we use the term “employer” for purposes of this competition, but the JDVRTAC may use another term in its work.

Change: None.

Comment: One commenter suggested that the requirement in paragraph (b)(4)(iii)(B) of the Application Requirements for the JDVRTAC to assess the State VR agencies' ability to effectively respond to TA is inappropriate and condescending. Rather, the commenter suggested that the JDVRTAC instead evaluate an agency's infrastructure, available resources, and commitment.

Discussion: We agree that these factors are important for the JDVRTAC to consider when identifying recipients of intensive TA, which is why we included similar language in subparagraph (b)(4)(iv)(B) of the Application Requirements. However, we do not believe these extra points of analysis are necessary when determining recipients of targeted, specialized TA, which are not usually specifically individualized for particular State VR agencies.

Change: None.

Comment: One commenter recommended that the priority require information technology (IT) platforms to be fully accessible to individuals with disabilities.

Discussion: We agree that IT platforms supported under this priority should be fully accessible to individuals with disabilities. However, the Rehabilitation Act, the Americans with Disabilities Act, and Department policies already require full accessibility of the Web sites and electronic content of Department grantees. As such, additional language in this priority will not create any additional accessibility requirements. However, we have reiterated that all TA efforts through IT platforms must meet government and industry-recognized standards for accessibility.

Changes: We have added a note following paragraph (b)(1) of the Technical Assistance and Dissemination Activities section of the priority to clarify that IT platforms must meet government and industry-recognized standards for accessibility.

Comment: Two commenters suggested that, rather than building an entirely new IT platform, a more cost-effective approach to making information accessible would be for the JDVRTAC to build upon existing platforms, or enter into a partnership with organizations with national scope that have suitable platforms.

Discussion: The Department agrees that, to the extent that compliant platforms exist or can be modified to fully meet the IT requirements of this priority, this approach may be more efficient.

Changes: We have added a note following paragraph (b)(2) of the Technical Assistance and Dissemination Activities section of this priority clarifying that a grantee can meet the requirements of paragraphs (b)(1) and (b)(2) by either developing new platforms or modifying existing platforms, so long as the IT requirements of this priority are met.

Comment: One commenter suggested that we include the following topics as part of the JDVRTAC activities: Marketing/branding for hiring individuals with disabilities; developing a common language between VR and business; and developing an inventory of promising employer engagement practices.

Discussion: We agree that these are all strategies that relate to the purpose and activities of the JDVRTAC. Nothing in the priority prohibits the JDVRTAC from providing TA in any of these topic areas.

Changes: None.

Comment: Two commenters suggested including additional areas of emphasis in the JDVRTAC priority. One commenter suggested that we add a focus on transportation, as transportation is often a significant barrier to employment. The other commenter suggested that assistive technology (AT) needs should be a major focus of the priority.

Discussion: There is no language in the priority that prohibits the JDVRTAC from providing TA on AT and transportation as part of its job-driven activities. However, because these topics are not the primary focus of the JDVRTAC, we do not believe additional emphasis on these areas is necessary.

Changes: None.

Comment: One commenter suggested that the JDVRTAC and its job-driven activities cannot address all of the factors that are necessary to improve employment outcomes. The commenter suggested that a better outcome measure for this priority would be an increase in the number of employment outcomes in competitive integrated setting resulting specifically from job-driven strategies.

Discussion: The Department agrees. Although it is important to track the impact of job-driven strategies on the total outcomes of the State VR agency, the primary intended outcome of this priority is to increase competitive, integrated employment outcomes through job-driven activities.

Changes: We added language in the purpose of the priority clarifying that one goal of the JDVRTAC is to increase employment outcomes as a result of job-driven activities.

Comment: One commenter was concerned that employment outcomes cannot be achieved in the time period of the grant. The commenter noted that the average length of time in a consumer's individualized plan of VR services is 24 months, and the duration of the project is only 36 months. Accordingly, the commenter suggested that RSA modify the JDVRTAC's stated purpose to focus not on employment outcomes, but instead on increasing the capacity to provide job-driven employment solutions as a purpose of the center.

Discussion: The commenter is correct about the average length of time a new consumer spends in the VR program, compared to the duration of the JDVRTAC. However, the comment assumes that only new consumers referred to the VR system would benefit from the TA provided by the JDVRTAC. Existing VR consumers who have completed their plans could benefit from interventions related to employer engagement that result in greater availability of jobs. However, we recognize that some outcomes for the JDVRTAC may be long-term. As such, intermediate outcomes and measures will be negotiated as part of the development of the cooperative agreement as discussed in the Performance Measures section of the notice inviting applications (published elsewhere in this issue of the Federal Register).

Change: None.

Comment: One commenter suggested that we revise outcome (c)—Increase the number of VR-eligible individuals with disabilities in employer-driven job training programs—to also include VR-eligible individuals with disabilities in other job-training programs that are responsive to employer needs and job market trends.

Discussion: As written, the priority already allows for customized training and other types of training that are directly responsive to employer needs and hiring requirements.

Changes: None.

Comment: Several commenters suggested that we require the JDVRTAC to collaborate and coordinate with the NET and the TAP, projects developed by CSAVR, which provide a process for employer engagement and the provision of some job-driven services at the national level.

Discussion: We agree that collaboration and coordination with relevant projects developed by CSAVR, including the NET and the TAP, are essential to avoid duplication of services. We included language in paragraph (b)(1)(iii) of the Application Requirements requiring applicants to describe their plan for communicating and coordinating with various entities, including CSAVR and the NET.

Changes: None.

Comment: Several commenters suggested that we require the JDVRTAC to collaborate and coordinate the Department of Labor's Science, Technology, Engineering and Math (STEM) grantees and its National Employment Policy Research and Technical Assistance Center.

Discussion: We agree that it is important for the JDVRTAC to consult with relevant programs and TA centers sponsored by other agencies, including the Department of Labor. As such, we included in section (b)(1)(iii) of the Application Requirements a requirement for applicants to describe their plans for communicating and coordinating with such entities. While we believe that consulting with these entities is beneficial, we also believe that specifically naming each relevant program or TA center is unnecessary.

Changes: None.

Comment: A few commenters asked whether the American Indian Vocational Rehabilitation Services (AIVRS) projects are eligible to receive TA from the JDVRTAC.

Discussion: Any service provider will have access to targeted and universal TA products generated by the JDVRTAC. With regard to intensive TA services, AIVRS projects may receive such services where they are a result of collaborative arrangements between State VR agencies and AIVRS projects to include AIVRS projects in the State VR Agency business outreach plan, and where such services are included in the intensive TA agreement between the State VR agency and the JDVRTAC. However, we do not believe that they should be primary recipients of JDVRTAC services.

Changes: None.

Comment: One commenter asked whether the JDVRTAC can provide TA services to Community Rehabilitation Programs (CRPs) that are part of the State VR agency business outreach plan.

Discussion: We do not believe that CRPs should be a primary recipient of JDVRTAC services. However, as with the AIVRS projects, if CRPs are an integral part of the State VR agency business outreach plan, the JDVRTAC can provide intensive TA services to improve CRP services as part of that plan as negotiated in the intensive TA agreement between the State VR agency and the JDVRTAC. Additionally, CRPs can access and use universal and targeted TA products made publicly available by the JDVRTAC.

Changes: None.

Comment: One commenter suggested that we require the JDVRTAC to use and expand existing employer-offered “train and place” models, such as REDI-Walgreens and Project Search, and expand existing efforts to customize employer-driven, community based training opportunities for permanent employment, and skill- and resume-building paid work activity. This commenter also recommended the use of community conversations to engage employers and community partners in the discussion on how they can assist in the employment of individuals with disabilities.

Discussion: We believe these are all good suggestions. However, we believe that these activities should not be requirements but rather options to investigate during the first year of the project. Any inclusion of these suggestions should develop out of the JDVRTAC's initial exploration and need.

Changes: We have added language in paragraph (a) of the Knowledge Development Activities section of the priority to clarify that the JDVRTAC should also, in its first year, survey employer-sponsored and public-private partnership programs.

Comment: One commenter submitted a list of proposed application requirements for applicants to address in their application. Specifically, the commenter proposed that applicants must: Demonstrate an understanding of the VR program nationally, the needs of business, and demand-driven approaches; include a robust research and evaluation component; and demonstrate experience delivering training and TA, and experience with and current involvement in national and regional partnerships that would support national dissemination efforts.

Discussion: We agree that many of these factors are important for applicants to address. Although we believe that the priority already addresses many of these elements, we agree that we should emphasize the importance of understanding the needs of businesses that employ individuals with disabilities.

Changes: We have added language regarding knowledge of the needs of business in relation to the employment of individuals with disabilities in paragraph (a)(1)(i) of the Application Requirements section of the priority to expand the knowledge requirement beyond employer engagement only.

Final Priority

The purpose of this priority is to fund a cooperative agreement to establish a Job-Driven Vocational Rehabilitation Technical Assistance Center (JDVRTAC) to achieve, at a minimum, the following outcomes: (a) Improve the ability of State vocational rehabilitation (VR) agencies to work with employers and providers of training to ensure equal access to and greater opportunities for individuals with disabilities to engage in competitive employment or training; (b) Increase the number and quality of employment outcomes in competitive, integrated settings for VR-eligible individuals with disabilities, including broadening the range of occupations for such individuals in such settings, that result from job-driven strategies; and (c) Increase the number of VR-eligible individuals with disabilities in employer-driven job training programs.

The JDVRTAC will develop and provide training and technical assistance (TA) to State VR agency staff and related rehabilitation professionals and service providers in the following four job-driven topic areas:

(a) Use of labor market data and occupational information to provide individuals with disabilities with the best information regarding job demand, skills matching, supports, and education, training, and career options;

(b) Disability-related consultation and services to employers related to competitive employment of individuals with disabilities (including individuals with the most significant disabilities) and strategies to recruit, train and serve employees with disabilities for the purposes of hiring, job retention, or return to work;

(c) Building and maintaining relationships with employers; and

(d) Services to providers of customized training and other types of training that are directly responsive to employer needs and hiring requirements.

Project Activities

To meet the requirements of this priority, the JDVRTAC must, at a minimum, conduct the following activities:

Knowledge Development Activities

(a) In the first year, collect information from the literature and from existing Federal, State, and other programs, including employer-sponsored and public-private partnership programs, regarding evidence-based and promising practices relevant to the work of the JDVRTAC and make this information publicly available in a searchable, accessible, and useful format. The JDVRTAC should review, at a minimum:

(1) The results of State VR agency monitoring conducted by RSA; and

(2) State VR agency program and performance data.

(b) In the first year, conduct a survey of relevant stakeholders and VR service providers to identify job-driven TA needs and a process by which TA solutions can be offered to State VR agencies and their partners. The JDVRTAC should survey, at a minimum:

(1) State VR agency staff; and

(2) Relevant RSA staff.

(c) Develop and refine four curriculum guides for VR staff training in:

(1) The use of labor market and occupational information for purposes of planning and job-matching with individuals with disabilities;

(2) Building programs of employer engagement, employer services, and program participation support services for institutions providing employer-driven training programs;

(3) Delivery of support services to providers of customized training and other job training directly responsive to employer needs and hiring requirements to promote and support the inclusion of individuals with disabilities in such training programs; and

(4) Delivery of support services to employers who hire individuals with disabilities from employer-driven training programs.

Technical Assistance and Dissemination Activities

(a) Provide intensive TA to a minimum of 16 State VR agencies and their associated rehabilitation professionals and service providers in the four job-driven topic areas set out in this priority. The JDVRTAC must provide intensive TA to a minimum of two agencies in the first year of the project, a minimum of ten agencies in the second year of the project, and a minimum of four agencies in the third year of the project. Such TA must include:

(1) For topic area (a), how to research, understand, and use up-to-date labor market information to assist individuals with disabilities in making informed career decisions and develop vocational goals;

(2) For topic area (b)—

(i) How to research, understand, and use up-to-date labor market information to effectively communicate with and address the needs of—

(A) Employers;

(B) Job seekers with disabilities; and

(C) Employees with disabilities.

(ii) How to balance job-seeker skills and informed choice with the needs and demands of employers;

(iii) Informational resources for employers on accommodations, including assistive technology;

(iv) Effective marketing and outreach to employers, such as how best to present information about job-ready applicants to employers, including what VR counselors and placement staff need to know about a specific employer and its business; and

(v) How to use occupational information resources to ensure optimal vocational guidance and counseling that result in the best fit for applicants and workers with disabilities and employers.

(3) For topic area (c), how to build and maintain partnerships with employers, looking at new or existing research about the relationship between employer practices and employment outcomes among individuals with disabilities, and promising practices for employer engagement.

(4) For topic area (d)—

(i) How to identify and access employer-driven training programs;

(ii) How to incorporate individuals with disabilities into training programs in which individuals with disabilities have been historically underrepresented; and

(iii) How to assist VR-eligible individuals with disabilities in accessing customized training or other job training that is directly responsive to employer needs and hiring requirements, including, but not limited to, training offered by providers under the Carl D. Perkins Career and Technical Education Improvement Act, H-1B Ready to Work Partnership Grants, and Trade Adjustment Assistance Community College and Career Training Grants.

(b) Provide a range of targeted and general TA products and services on the four job-driven topic areas in this priority. Such TA should include, at a minimum, the following activities:

(1) Developing and maintaining a state-of-the-art information technology (IT) platform sufficient to support Webinars, teleconferences, video conferences, and other virtual methods of dissemination of information and TA;

Note: All products produced by the JDVRTAC must meet government and industry-recognized standards for accessibility.

(2) Developing and maintaining a state-of-the-art archiving and dissemination system that provides a central location for later use of TA products, including course curricula, audiovisual materials, Webinars, examples of emerging and best practices related to the four job-driven topic areas in this notice, and any other TA products, that is open and available to the public; and

Note: In meeting the requirements of (b)(1) and (b)(2) above, the JDVRTAC may either develop new platforms or systems, or modify existing platforms or systems, so long as the requirements of this priority are met.

(3) Providing a minimum of two Webinars or video conferences on each of the four job-driven topic areas in this notice to describe and disseminate information about emerging and best practices in each area.

Coordination Activities

(a) Establish a community of practice that will act as a vehicle for communication, exchange of information among State VR agencies and partners, and a forum for sharing the results of TA projects that are in progress or have been completed. Such community of practice must be focused on the use of labor market and occupational information for individual planning, employer services and communication, and support of employer-driven training services;

(b) Communicate and coordinate, on an ongoing basis, with other Department-funded projects and those supported by the Departments of Labor and Commerce; and

(c) Maintain ongoing communication with the RSA project officer.

Application Requirements

To be funded under this priority, applicants must meet the application and administrative requirements in this priority. RSA encourages innovative approaches to meet these requirements, which are:

(a) Demonstrate, in the narrative section of the application under “Significance of the Project,” how the proposed project will—

(1) Address State VR agencies' capacity to work with employers and providers of training to ensure equal access to and greater opportunities for individuals with disabilities to engage in, competitive employment or training. To meet this requirement, the applicant must:

(i) Demonstrate knowledge of emerging and best practices in employer engagement, including alignment with the needs of business related to employment of individuals with disabilities;

(ii) Demonstrate knowledge of current RSA guidance and State and Federal initiatives designed to improve employer engagement and alignment of workforce training programs with employer needs; and

(iii) Present information about the difficulties that State VR agencies and service providers have encountered in developing effective employer engagement plans.

(2) Result in increases in both the number of VR-eligible individuals with disabilities in employer-driven job-training programs, and the number and quality of employment outcomes in competitive, integrated settings for VR-eligible individuals with disabilities, including broadening the range of occupations for such individuals in such settings.

(b) Demonstrate, in the narrative section of the application under “Quality of Project Services,” how the proposed project will—

(1) Achieve its goals, objectives, and intended outcomes. To meet this requirement, the applicant must provide—

(i) Measurable intended project outcomes;

(ii) A plan for how the proposed project will achieve its intended outcomes; and

(iii) A plan for communicating and coordinating with key staff in State VR agencies, State and local partner programs, providers of customized training programs and other training programs that are directly responsive to employer needs and hiring requirements, RSA partners such as the Council of State Administrators of Vocational Rehabilitation (CSAVR), the National Council of State Agencies for the Blind, CSAVR's National Employment Team, and other TA centers and relevant programs within the Departments of Education, Labor, and Commerce.

(2) Use a conceptual framework to develop project plans and activities, describing any underlying concepts, assumptions, expectations, beliefs, or theories, as well as the presumed relationships or linkages among these variables, and any empirical support for this framework.

(3) Be based on current research and make use of evidence-based practices. To meet this requirement, the applicant must describe—

(i) The current research on the emerging and promising practices in the four job-driven topic areas in this priority;

(ii) How the current research about adult learning principles and implementation science will inform the proposed TA; and

(iii) How the proposed project will incorporate current research and evidence-based practices in the development and delivery of its products and services.

(4) Develop products and provide services that are of high quality and sufficient intensity and duration to achieve the intended outcomes of the proposed project. To address this requirement, the applicant must describe—

(i) Its proposed activities to identify or develop the knowledge base on emerging and promising practices in the four job-driven topic areas in this priority;

(ii) Its proposed approach to universal, general TA; ²

² For the purposes of this priority, “universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,³ which must identify—

³ For the purposes of this priority, “targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of State VR agencies to work with the proposed project, assessing, at a minimum, their current infrastructure, available resources, and ability to effectively respond to the TA, as appropriate.

(iv) Its proposed approach to intensive, sustained TA,⁴ which must identify—

⁴ For the purposes of this priority, “intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients of the products and services under this approach;

(B) Its proposed approach to measure the readiness of the State VR agencies to work with the proposed project including the State VR agencies' commitment to the initiative, fit of the initiatives, current infrastructure, available resources, and ability to respond effectively to the TA, as appropriate;

(C) Its proposed plan for assisting State VR agencies to build training systems that include professional development based on adult learning principles and coaching; and

(D) Its proposed plan for developing intensive TA agreements with State VR agencies to provide intensive, sustained TA. The plan must describe how the intensive TA agreements will outline the purposes of the TA, the intended outcomes of the TA, and the measurable objectives of the TA that will be evaluated.

(5) Develop products and implement services to maximize the project's efficiency. To address this requirement, the applicant must describe—

(i) How the proposed project will use technology to achieve the intended project outcomes; and

(ii) With whom the proposed project will collaborate and the intended outcomes of this collaboration.

(c) Demonstrate, in the narrative section of the application under “Quality of the Evaluation Plan,” how the proposed project will—

(1) Measure and track the effectiveness of the TA provided. To meet this requirement, the applicant must describe its proposed approach to—

(i) Collecting data on the effectiveness of each TA activity from State VR agencies, partners, or other sources, as appropriate; and

(ii) Analyzing data and determining the effectiveness of each TA activity, including any proposed standards or targets for determining effectiveness.

(2) Collect and analyze data on specific and measurable goals, objectives, and intended outcomes of the project, including measuring and tracking the effectiveness of the TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual TA activities achieved their intended outcomes.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to provide TA to State VR agencies and their partners in each of the four job-driven topic areas in this priority and to achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks.

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, TA providers, researchers, and policy makers, among others, in its development and operation.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities. The benefits of the Rehabilitation Training program have been well established over the years through the successful completion of similar projects, particularly those grants that provided TA to State VR agencies. Specifically, this priority would establish a JDVRTAC that would assist State VR agencies to develop employment opportunities that would be responsive to employer-driven needs for employees who have the skills to work in today's labor market. This priority is directly responsive to the Presidential Memorandum to Federal agencies directing them to take action to address job-driven training for the Nation's workers.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 13, 2014.
Michael K. Yudin,
Acting Assistant Secretary for Special Education and Rehabilitative Services.

[FR Doc. 2014-19588 Filed 8-18-14; 8:45 am]

BILLING CODE 4000-01-P